DEPARTMENT OF LABOR

Mine Safety and Health Administration

[OMB Control No. 1219-0143]

Proposed Extension of Existing Information Collection; Request for MSHA Individual Identification Number (MIIN)

AGENCY: Mine Safety and Health Administration, Labor.

ACTION: Notice of request for public comments.

SUMMARY: The Department of Labor, as part of its continuing effort to reduce paperwork and respondent burden, conducts a pre-clearance consultation program to provide the general public and Federal agencies with an opportunity to comment on proposed and/or continuing collections of information in accordance with the Paperwork Reduction Act of 1995 [44 U.S.C. 3506(c)(2)(A)]. This program helps to assure that requested data can be provided in the desired format, reporting burden (time and financial resources) is minimized, collection instruments are clearly understood, and the impact of collection requirements on respondents can be properly assessed. Currently, the Mine Safety and Health Administration (MSHA) is soliciting comments concerning the extension of the information collection for Request for MSHA Individual Identification Number (MIIN).

DATES: All comments must be received by midnight Eastern Standard Time on February 15, 2011.

ADDRESSES: Comments must clearly be identified with the rule title and may be submitted to MSHA by any of the following methods:

(1) Electronic mail: zzMSHA-Comments@dol.gov.

(2) Facsimile: (202) 693-9441.

(3) Regular Mail: MSHA, Office of Standards, Regulations, and Variances, 1100 Wilson Blvd., Room 2350, Arlington, VA 22209-3939.

(4) Hand Delivery or Courier: MSHA, Office of Standards, Regulations, and Variances, 1100 Wilson Blvd., Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voicemail), 202-693-9441 (facsimile).

SUPPLEMENTARY INFORMATION:

I. Background

Section 101(a) of the Federal Mine Safety and Health Act of 1977 (Mine Act) requires the Secretary to develop, promulgate, and revise as may be appropriate, improved mandatory health or safety standards for the protection of life and prevention of injuries in coal or other mines. Under section 103(a)(2), authorized representatives of the Secretary of Labor or Secretary of Health and Human Services must make frequent inspections and investigations in coal or other mines each year for the purpose of gathering information with respect to mandatory health or safety standards.

The Mine Safety and Health Administration (MSHA) issues certifications, qualifications and approvals (licenses) to the nation's miners to conduct specific work within the mines. Prior to the approval of this collection Social Security Numbers (SSNs) were used for tracking purposes within MSHA's data processing systems, in the absence of other reliable identification systems. In the effort to reduce use of SSNs both by MSHA and third parties, MSHA has changed the process to one in which miners requiring a license or benefit from MSHA will register for an “MSHA Individual Identification Number” (MIIN).

This unique number is used in place of individual SSNs for all licensing requirements within MSHA. This process has allowed MSHA to discontinue the past practice of individuals supplying their personally identifiable information to instructors, states or other entities, which in turn supplied that information to MSHA. Miners needing a license or benefit from MSHA will need to register only one time to obtain their MIINs from MSHA.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the proposed information collection request can be obtained by contacting the employee listed in the FOR FURTHER INFORMATION CONTACT section of this notice, or viewed on the Internet by selecting “Rules & Regs”, and then selecting “FedReg.Docs”. On the next screen, select “Paperwork Reduction Act Supporting Statement” to view documents supporting the Federal Register notice.

III. Current Actions

This request for collection of information contains notification and recordkeeping provisions for the Proposed Information Collection Request Submitted for Public Comment and Recommendations; Request for MSHA Individual Identification Number (MIIN). MSHA does not intend to publish the results from this information collection and is not seeking approval to either display or not display the expiration date for the OMB approval of this information collection.

There are no certification exceptions identified with this information collection and the collection of this information does not employ statistical methods.

Type of Review: Extension.

Agency: Mine Safety and Health Administration.

OMB Number: 1219-0143.

Frequency: On Occasion.

Affected Public: Business or other for-profit.

Cost to Federal Government: $132,784.

Total Burden Respondents: 11,000.

Total Number of Responses: 11,000.

Total Burden Hours: 916.

Total Hour Burden Cost (operating/maintaining): $38,696.

Comments submitted in response to this notice will be summarized and/or included in the request for Office of Management and Budget approval of the information collection request; they will also become a matter of public record.

Dated: December 13, 2010.
Patricia W. Silvey,
Director, Office of Standards, Regulations, and Variances.

[FR Doc. 2010-31688 Filed 12-16-10; 8:45 am]

BILLING CODE 4510-43-P